DEPARTMENT OF HOUSING AND URBAN DEVELOPMENT

[Docket No.FR-4816-N-03]

Notice of Submission of Proposed Information Collection to OMB; Fair Housing Initiatives Program Application; Notice of Proposed Information Collection for Public Comment

AGENCY: Office of the Assistant Secretary for Fair Housing and Equal Opportunity.

ACTION: Notice of proposed information collection.

SUMMARY: The proposed information collection requirement described below has been submitted to the Office of Management and Budget (OMB) for review and approval, as required by the Paperwork Reduction Act. The Department is soliciting public comments on the subject proposal.

DATES: Comments Due Date: August 25, 2003.

ADDRESSES: Interested persons are invited to submit comments regarding this proposal. Comments should refer to the proposal by name/or OMB approval number) and should be sent to: Surrell S. Silverman, Reports Liaison Officer, Office of Fair Housing and Equal Opportunity (FHEO), 451 7th Street, SW., Room 5124, Washington, DC 20410; e-mail Surrell_S._Silverman@hud.gov; fax: 202-708-6211.

FOR FURTHER INFORMATION CONTACT: Melody Taylor-Blancher, FHIP/FHAP Support Division, Department of Housing and Urban Development, 451 Seventh Street, SW., Washington, DC 20410; e-mail Melody_C._Taylor-Blancher@HUD.GOV. Copies of available documents submitted to OMB may be obtained from Mrs. Taylor-Blancher. Hearing or speech-impaired individuals may access this number via TTY by calling the toll-free number Federal Information Relay Service at 1-800-877-8399.

SUPPLEMENTARY INFORMATION: This Notice informs the public that the U.S. Department of Housing and Urban Development (HUD) has submitted to OMB, revisions to the currently approved information collection for selecting applicants for the Fair Housing Initiatives Program (FHIP) grants. These forms were approved under emergency request and are being resubmitted for public comment for extension of approval period.

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Fair Housing Initiatives Program Application.

Description of Information Collection: This is a revision to the currently approved information collection for selecting applicants for the Fair Housing Initiatives Program (FHIP) grants which will be part of the Notice of Funding Availability (NOFA). These grants are to fund fair housing enforcement and/or education and outreach activities under the following initiatives: Administrative Enforcement; Private Enforcement; Education and Outreach; and Fair Housing Organizations. Proposed revisions to the currently approved information collection would include: descriptions of how program activities will support HUD goals, identify performance measures/outcomes in support of these goals, and identify baseline conditions and target levels of the performance measures that each applicant plans to achieve in reports submitted to HUD.

OMB Control Number: 2529-0033.

Agency Form Numbers: HUD forms 40076-FHIP, 424, 424B, 424C, 424CB, 424CBW, 2880, 2990, 2991, 2993, 2994, and OMB SF LLL.

Members of Affected Public: Not-for-profit institutions, State, Local or Tribal Government, Business or other for-profit.

Estimation of the total number of hours needed to prepare the information collection including number of respondents, and frequency of responses, and the total hours per respondent: An estimation of the total number of hours needed to prepare the information collection is 28,410, number of respondents is 400, frequency response is 1 per annum, and the total hours per respondent is 100 hours.

Authority: The Paperwork Reduction Act of 1995, 44 U.S.C. Chapter 35, as amended.

Dated: June 12, 2003.
Carolyn Y. Peoples,
Assistant Secretary for the Office of Fair Housing and Equal Opportunity.

[FR Doc. 03-15816 Filed 6-23-03; 8:45 am]

BILLING CODE 4210-28-P